ENVIRONMENTAL PROTECTION AGENCY

[OPP-2002-0194; FRL-7197-6]

EPA Pesticide Program Dialogue Committee; Notice of Public Meeting

AGENCY: Environmental Protection Agency (EPA).

ACTION: Notice.

SUMMARY: EPA's Office of Pesticide Programs will hold a public meeting of the Pesticide Program Dialogue Committee (PPDC) on September 17 and 18, 2002. An agenda will be available by September 13, 2002, and posted on EPA's Web site at www.epa.gov/pesticides/ppdc/. An agenda is being developed and will include the following topics: Alternative, i.e., non-animal or reduced-animal testing (with special focus on acute toxicity testing), pesticide program resource allocations and expenditures, follow-up reports from the May 2002, PPDC meeting, and other topics.

DATES: The meeting will be held on Tuesday, September 17, 2002, from 9 a.m. to 5 p.m., and on Wednesday, September 18, 2002, from 9 a.m. to 3 p.m.

ADDRESSES: The meeting will be held at the Old Town Holiday Inn Select, 480 King Street, Carlyle Conference Room fifth floor, Alexandria, VA. Telephone: (703) 549-6080.

FOR FURTHER INFORMATION CONTACT: Margie Fehrenbach, Office of Pesticide Programs (7501C), Environmental Protection Agency, 1200 Pennsylvania Avenue, NW., Washington, DC 20460; telephone number: (703) 308-4775; fax number: (703) 308-4776; e-mail address: fehrenbach.margie@epa.gov.

SUPPLEMENTARY INFORMATION:

I. General Information

A. Does this Action Apply to Me?

This action is directed to the public in general. This action may, however be of interest to persons who are concerned about implementation of the Federal Insecticide, Fungicide, and Rodenticide Act (FIFRA); the Federal Food, Drug, and Cosmetic Act (FFDCA); and the amendments to both of these major pesticide laws by the Food Quality Protection Act (FQPA) (Public Law 104-170) of 1996.

Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about PPDC, go directly to the Home Page for EPA's Office of Pesticide Programs at http://www.epa.gov/pesticides/ppdc/.

2. In person. The Agency has established an official record for this action under docket ID number OPP-2002-0194. The official record consists of the documents specifically referenced in this action, any public comments received during an applicable comment period, and other information related to this action, including any information claimed as Confidential Business Information (CBI). This official record includes the documents that are physically located in the docket, as well as the documents that are referenced in those documents. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

The PPDC is composed of 42 members appointed by EPA's Deputy Administrator. Committee members were selected from a balanced group of participants from the following sectors:

1. Pesticide user, grower, and commodity groups.

2. Industry and trade associations.

3. Environmental/public interest and farmworker groups.

4. Federal, State and tribal governments.

5. Public health organizations.

5. Animal welfare and academia.

PPDC was established to provide a public forum to discuss a wide variety of pesticide regulatory development and reform initiatives, evolving public policy, program implementation issues, science policy issues associated with evaluating, and reducing risks from use of pesticides.

III. How Can I Participate in this Meeting?

The PPDC meetings and workshops are open to the public under section 10(a)(2) of the Federal Advisory Committee Act (FACA), Public Law 92-463. Outside statements by observers are welcome. Oral statements will be limited to 3 to 5 minutes, and it is preferred that only one person per organization present the statement. Any person who wishes to file a written statement may do so before or after the meeting. These statements will become part of the permanent record and will be available for public inspection at the address in Unit I.B.2.

List of Subjects

Environmental protection, Pesticides and pests.

Dated: August 26, 2002.
Marcia E. Mulkey,
Director, Office of Pesticide Programs.

[FR Doc. 02-22219 Filed 8-27-02; 4:06 pm]

BILLING CODE 6560-50-S